DEPARTMENT OF HOMELAND SECURITY

Coast Guard

33 CFR Part 117

[Docket No. USCG-2018-0447]

Drawbridge Operation Regulation; Harlem River, Bronx, New York

AGENCY: Coast Guard, DHS.

ACTION: Notice of deviation from drawbridge regulation.

SUMMARY: The Coast Guard has issued a temporary deviation from the operating schedule that governs the Broadway Bridge across the Harlem River, mile 6.8, at Bronx, New York. This temporary deviation is necessary to allow the bridge to remain in the closed-to-navigation position to facilitate replacement of the middle track.

DATES: This deviation is effective from 6 a.m. on June 9, 2018 to 5 p.m. on August 12, 2018.

ADDRESSES: The docket for this deviation, USCG-2018-0447 is available at http://www.regulations.gov. Type the docket number in the “SEARCH” box and click “SEARCH.” Click on Open Docket Folder on the line associated with this deviation.

FOR FURTHER INFORMATION CONTACT: If you have questions on this temporary deviation, call or email Judy Leung-Yee, Bridge Management Specialist, First District Bridge Branch, U.S. Coast Guard, telephone 212-514-4336, email Judy.K.Leung-Yee@uscg.mil.

SUPPLEMENTARY INFORMATION: New York City Transit, the bridge owner, requested a temporary deviation from the normal operating schedule to facilitate replacement of the middle track. The Broadway Bridge across the Harlem River, mile 6.8, has a vertical clearance in the closed position of 24 feet at mean high water and 29 feet at mean low water. The existing bridge operating regulations are listed at 33 CFR 117.789(b)(1).

Under this temporary deviation, the Broadway Bridge shall remain in the closed position between 6 a.m. and 7 p.m. on June 9, June 16, June 23, June 30, August 4 and August 11, 2018; and between 6 a.m. and 5 p.m. on June 17, July 1, August 5 and August 12, 2018.

The waterway is transited by commercial and recreational traffic. The Coast Guard notified known commercial vessel operators that transit the area, including the Sandy Hook Pilots Association and the local Tug/Tow Committee; there were no objections to this temporary deviation. Vessels able to pass under the bridge in the closed position may do so at any time. The bridge will not be able to open for emergencies and there is no immediate alternate route for vessels to pass.

The Coast Guard will inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: May 24, 2018.
C.J. Bisignano,
Supervisory Bridge Management Specialist, First Coast Guard District.

[FR Doc. 2018-11770 Filed 5-31-18; 8:45 am]

BILLING CODE 9110-04-P